DEPARTMENT OF ENERGY

Federal Energy Regulatory Commission

[ Docket Nos. PL05-7-000, EL03-236-000 et al., ER04-539-000 et al.]

Capacity Markets in the PJM Region, PJM Interconnection, LLC, PJM Interconnection, LLC; Supplemental Notice of Technical Conference

June 8, 2005.

On May 19, 2005, a notice was issued in Docket No. PL05-7-000 ¹ announcing that a technical conference will be held June 16, 2005, to discuss the capacity markets currently in use in the PJM Interconnection, L.L.C. (PJM) region. The notice indicated that the technical conference is intended to provide a forum through which Federal and State regulators and participants in the PJM market may come to a common understanding of the current PJM capacity situation, the problems perceived in the market and what deficiencies, if any, exist in the current PJM market construct that contribute to, or do not properly address, those perceived problems, and potential alternative solutions. Members of the Federal Energy Regulatory Commission, state public utilities commissions, and their respective staffs are expected to participate. This supplemental notice provides additional information and an agenda for the conference.

¹ This notice also includes additional dockets, listed in the caption, that relate to issues that may be discussed.

The morning session of the conference will be focused on general capacity market objectives, how PJM's current capacity market meets those objectives, and alternative approaches under consideration, including PJM's Reliability Pricing Model (RPM) proposal. The afternoon session will address specific elements of a capacity market, including whether and how transmission planning and load response can be integrated with the capacity market as well as procurement issues, such as the shape of the demand curve and the appropriate role for PJM. Discussion during the afternoon should address how the elements of the various alternative proposals compare with regard to those elements.

The conference is open for the public to attend and advance registration is not required.

Transcripts of the conference will be immediately available from Ace Reporting Company (202-347-3700 or 1-800-336-6646) for a fee. They will be available for the public on the Commission's eLibrary system 7 calendar days after FERC receives the transcript. Additionally, Capitol Connection offers the opportunity for remote listening and viewing of the conference. It is available for a fee, live over the Internet, by phone or via satellite. Persons interested in receiving the broadcast or who need information on making arrangements should contact David Reininger or Julia Morelli at the Capitol Connection (703-993-3100) as soon as possible or visit the Capitol Connection Web site at http://www.capitolconnection.org and click on “FERC.”

FERC conferences are accessible under section 508 of the Rehabilitation Act of 1973. For accessibility accommodations please send an e-mail to accessibility@ferc.gov or call toll free 866-208-3372 (voice) or 202-208-1659 (TTY), or send a FAX to 202-208-2106 with the required accommodations.

For additional information, please contact Morris Margolis at (202) 502-8611; morris.margolis@ferc.gov, or Sarah McKinley at (202) 502-8004, or sarah.mckinley@ferc.gov.

Magalie R. Salas,
Secretary.

Technical Conference Agenda

9 a.m.

I. Opening Remarks and Introductions

II. General Capacity Market Objectives and PJM

Objectives of a capacity market

Interrelationship with other markets

Does PJM's current capacity construct meet those objectives?

Should there be an “exit strategy” for the capacity market? i.e., are capacity markets a short term fix? If so, how to design an exit strategy?

Panelists: Joseph Bowring, Manager, PJM Market Monitoring Unit; Elizabeth Anne Moler, Executive Vice President, Exelon Corp.; Thomas Shaw, Executive Vice President and COO, PEPCO Holdings, Inc.; Bob Weishaar, PJM Industrial Customer Coalition; Patrick McCullar, President and CEO, Delaware Municipal Electric Corp.; Lynne Kiesling, Northwestern University and the International Foundation for Research in Experimental Economics; Brian Chin, Energy Merchant Analyst, Smith Barney; Roy Shanker.

III. Description of Alternative Capacity Market Proposals

Andy Ott, Vice President, Market Services, PJM—PJM's Reliability Pricing Model (RPM), Ed Tatum, Old Dominion Electric Cooperative—Enhanced Integrated Transmission and Capacity Construct (EITCC), Tom Hyzinski, PPL Corporation—PPL Resource Adequacy Market Proposal.

Lunch Break

IV. Capacity Market Elements

Panel 1: Transmission Planning: Planning horizon time frame, Role of “reliability must run”, or RMR agreements, Transmission investment triggers, “Granularity” of locational requirements.

Panelists: Steve Herling, Executive Director, System Planning, PJM; Craig Baker, Senior Vice President, Regulatory Services, AEP; Laurie Oppel, Navigant Consulting; Gary Sorenson, Managing Director, Energy Operations, PSEG Energy Resources and Trade, L.L.C.; George Owens, Downes Associates, Inc.

Panel 2: Procurement: Shape of demand curve (i.e., vertical or sloped), Penalty structure, Timing of forward obligations/procurement, Role of PJM in procurement, Impact on retail access, Impact on long term bilateral contracting, Facilitation of demand response, including annual v. peak pricing.

Panelists: Tom Welch, Market Strategy, Market Services Division, PJM; Ben Hobbs, Johns Hopkins University; Reem Fahey, Regional V.P. of Market Policy, Edison Mission Energy; Jon Wallach, on behalf of Maryland Peoples' Counsel; John Orr, Director, Reliant Energy; Steve Wemple, Director, ConEdison Energy; Stephen Fernands, Customized Energy Solutions; Mark Scott, Old Dominion Electric Cooperative.

4 p.m.—Recap

5 p.m.—Adjourn

[FR Doc. E5-3075 Filed 6-14-05; 8:45 am]

BILLING CODE 6717-01-P